NUCLEAR REGULATORY COMMISSION

[Docket No. NRC-2009-0243]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on July 1, 2009.

1. Type of submission, new, revision, or extension: Extension with Burden Adjustment.

2. The title of the information collection: NRC Form 398, “Personal Qualification Statement—Licensee”.

3. Current OMB approval number: 3150-0090.

4. The form number if applicable: NRC Form 398.

5. How often the collection is required: On occasion and every six years (at renewal).

6. Who will be required or asked to report: Individuals requiring a license to operate controls at a nuclear reactor.

7. An estimate of the number of annual responses: 1,410 (one each per respondent).

8. The estimated number of annual respondents: 1,410.

9. An estimate of the total number of hours needed annually to complete the requirement or request: 3,285 (2.33 hours per response).

10. Abstract: NRC Form 398 requests detailed information that should be submitted by a licensing applicant and facility licensee when applying for a new or renewal license to operate the controls at a nuclear reactor facility. This information, once collected, would be used for licensing actions and for generating reports on the Operator Licensing Program.

A copy of the final supporting statement may be viewed free of charge at the NRC Public Document Room, One White Flint North, 11555 Rockville Pike, Room O-1 F21, Rockville, Maryland 20852. OMB clearance requests are available at the NRC worldwide Web site: http://www.nrc.gov/public-involve/doc-comment/omb/index.html. The document will be available on the NRC home page site for 60 days after the signature date of this notice.

Comments and questions should be directed to the OMB reviewer listed below by November 5, 2009. Comments received after this date will be considered if it is practical to do so, but assurance of consideration cannot be given to comments received after this date.

Christine J. Kymn, Office of Information and Regulatory Affairs (3150-0090), NEOB-10202, Office of Management and Budget, Washington, DC 20503.

The NRC Clearance Officer is Tremaine Donnell, (301) 415-6258.

Dated at Rockville, Maryland, this 25th day of September, 2009.
For the Nuclear Regulatory Commission.
Tremaine Donnell,
NRC Clearance Officer, Office of Information Services.

[FR Doc. E9-24050 Filed 10-5-09; 8:45 am]

BILLING CODE 7590-01-P